DEPARTMENT OF COMMERCE

National Oceanic and Atmospheric Administration

[RTID 0648-XC415]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a 4-day meeting to consider actions affecting the Gulf of Mexico fisheries in the exclusive economic zone (EEZ). The meeting will be a hybrid meeting open to the public offering both in-person and virtual options for participation.

DATES: The meeting will convene Monday, October 24 through Wednesday, October 26, 2022, from 8 a.m. to 5 p.m. and Thursday, October 27, 2022 from 8 a.m. to 4:30 p.m., CDT.

ADDRESSES:

Meeting address: The meeting will take place at the Beau Rivage Resort and Casino hotel, located at 875 Beach Boulevard, Biloxi, MS 39530.

Please note, in-person meeting attendees will be expected to follow any current COVID-19 safety protocols as determined by the Council, hotel and the City of Biloxi, if any. Such precautions may include masks, room capacity restrictions, and/or social distancing. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, October 24, 2022; 8 a.m.-5 p.m., CDT

The meeting will begin with FULL COUNCIL's review and adoption of Proposed Council Committee assignments for October 2022 through August 2023 and Current Council Committee Assignments are posted as background information. The Council will receive a demonstration of Electronic Voting Technology.

Committee Sessions will begin approximately 8:30 a.m. with the Shrimp Committee receiving an update on Testing and Development of Options Proposed as Replacements for the Historical Cellular Electronic Logbook (cELB) Devices for the Gulf Shrimp Fishery.

The Habitat Protection and Restoration Committee will review Scientific and Statistical Committee (SSC) Recommendations on Essential Fish Habitat and Draft Essential Fish Habitat Amendment. The Sustainable Fisheries Committee will review Florida Pompano Landings and Requirements for Consideration of Federal Fisheries management, including SSC Recommendations from the September 2022 Socioeconomic Stock Assessment Workshop Report.

Following lunch, the Mackerel Committee will convene for review of Coastal Migratory Pelagics Landings, Public Hearing Draft Amendment 33: Modifications to the Gulf of Mexico Migratory Group King Mackerel Sector Allocation, and Draft Framework Amendment: Modifications to the Gulf of Mexico Migratory Group King Mackerel Southern Zone Gillnet Fishing Season.

The Law Enforcement Committee will review the Meeting Summary from the October 2022 Law Enforcement Technical Committee meeting.

The Reef Fish Committee will convene to review Reef Fish Landings and Individual Fishing Quota (IFQ) Landings and State-specific Private Angling and State For-hire Red Snapper Landings.

Tuesday, October 25, 2022; 8 a.m.-5 p.m., CDT

The Reef Fish Committee will reconvene to review final action item Draft Amendment 54: Modifications to the Greater Amberjack Catch Limits and Sector Allocations, and other Rebuilding Plan Modifications; and, receive a presentation on Draft Greater Amberjack Commercial and Recreational Management Measures and Reef Fish Advisory Panel recommendations.

The Committee will hold a discussion on the second meeting for the IFQ Focus Group Charge and Deliverables, review Draft Framework Action for Gray Triggerfish Commercial Trip Limit and Reef Fish Advisory Panel (AP) recommendations. The Committee will review draft options for Amendment 56: Modifications to the Gag Grouper Catch Limits, Sector Allocations, Fishing Seasons, and other Rebuilding Plan Measures; review SSC Recommendations for Review of the SEDAR 68 Operational Assessment for Gulf of Mexico Scamp; and, remaining Reef Fish AP recommendations from the October 2022 meeting.

Immediately following the Reef Fish Committee NMFS will Host a General Questions and Answer Session.

Wednesday, October 26, 2022; 8 a.m.-5 p.m., CDT

The Data Collection Committee will review Abbreviated Framework Action to Modify For-hire Trip Declaration Requirements and Reef Fish AP recommendations; review of South Atlantic Council Workgroup Discussions on Federal Private Angling Reef Fish Permit; update from Gulf States Marine Fisheries Commission (GSMFC) on Fisheries Data Collection and Management; and an update on Commercial Electronic Reporting including Reef Fish AP recommendations.

Approximately 10:45 a.m., CDT, the Council will reconvene with a Call to Order, Announcements and Introductions, Adoption of Agenda and Approval of Minutes.

The Council will receive presentations on Recommendations from the Joint Council Workgroup on section 102 of the Modern Fish Act, Deepwater Horizon Fish Restoration and Future Restoration Planning; and, an update from Bureau of Ocean Energy Management (BEOM) on Wind Energy Development in the Gulf of Mexico.

The Council will hold public testimony from 1:30 p.m. to 5 p.m., CDT on Final Action: Draft Amendment 54: Modifications to the Greater Amberjack Catch Limits and Sector Allocations, and other Rebuilding Plan Modifications; and, open testimony on other fishery issues or concerns. Public comment may begin earlier than 1:30 p.m. CDT, but will not conclude before that time. Persons wishing to give public testimony in-person must register at the registration kiosk in the meeting room. Persons wishing to give public testimony virtually must sign up via the link on the Council website. Registration for virtual testimony is open at the start of the meeting, Monday, October 24th at 8 a.m., CDT and closes one hour before public testimony begins on Wednesday, October 26th at 12:30 p.m., CDT.

Thursday, October 27, 2022; 8 a.m.-4:30 p.m., CDT

The Council will receive Committee reports from Shrimp, Habitat Protection and Restoration, Law Enforcement, Sustainable Fisheries, Mackerel, Reef Fish and Data Collection Management Committees. The Council will receive updates from the following supporting agencies: South Atlantic Fishery Management Council; Mississippi Law Enforcement Efforts; NOAA Office of Law Enforcement (OLE); Gulf States Marine Fisheries Commission; U.S. Coast Guard; U.S. Fish and Wildlife Service; and Department of State.

The Council will receive a Litigation Update and discuss any Other Business items.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: September 27, 2022.
Rey Israel Marquez,
Acting Deputy Director, Office of Sustainable Fisheries, National Marine Fisheries Service.

[FR Doc. 2022-21300 Filed 9-29-22; 8:45 am]

BILLING CODE 3510-22-P